DEPARTMENT OF THE TREASURY

Internal Revenue Service

26 CFR Part 1

[TD 9435]

RIN 1545-BH61

Guidance Regarding the Treatment of Stock of a Controlled Corporation Under Section 355(a)(3)(B); Correction

AGENCY: Internal Revenue Service (IRS), Treasury.

ACTION: Correction to final and temporary regulations.

SUMMARY: This document contains corrections to final and temporary regulations (TD 9435) that were published in the Federal Register on Monday, December 15, 2008 (73 FR 75946) providing guidance regarding the distribution of stock of a controlled corporation acquired in a transaction described in section 355(a)(3)(B) of the Internal Revenue Code. This action is necessary in light of amendments to section 355(b). These temporary regulations will affect corporations and their shareholders.

DATES: Effective Date: This correction is effective January 21, 2009, and is applicable on December 15, 2008.

FOR FURTHER INFORMATION CONTACT: Russell P. Subin, (202) 622-7790 (not a toll-free number).

SUPPLEMENTARY INFORMATION:

Background

The final and temporary regulations that are the subject of this document are under section 355 of the Internal Revenue Code.

Need for Correction

As published, final and temporary regulations (TD 9435) contains errors that may prove to be misleading and are in need of clarification.

Correction of Publication

Accordingly, the publication of the final and temporary regulations (TD 9435), which was the subject of FR Doc. E8-29544, is corrected as follows:

1. On page 75947, column 1, in the preamble, under the paragraph heading “Background”, second paragraph of the column, third line from the bottom of the paragraph, the language “respective corporation is not the” is corrected to read “corporation is not the”.

2. On page 75949, column 1, in the preamble, under the paragraph heading “B. Issuances of Controlled Stock Outside the Dunn Trust or Predecessor Context”, first paragraph, ninth line, the language “442, (1978-2 CB 143) (distributing” is corrected to read “442 (1978-2 CB 143) (distributing”.

3. On page 75949, column 2, in the preamble, under the paragraph heading “C. Redemptions of Controlled Stock”, second paragraph of the column, twelfth line, the language “distributing, and generally no additional” is corrected to read “distributing and generally no additional”.

4. On page 75949, column 3, in the preamble, under the paragraph heading “Effective/Applicability Date”, seventh line, the language “occurring after December 15, 2008 that” is corrected to read “occurring after December 15, 2008, that”.

LaNita Van Dyke,
Chief, Publications and Regulations Branch, Legal Processing Division, Associate Chief Counsel (Procedure and Administration).

[FR Doc. E9-1109 Filed 1-16-09; 8:45 am]

BILLING CODE 4830-01-P